DEPARTMENT OF ENERGY

Federal Energy Regulatory Commission

[Docket No. CP00-470-000]

Columbia Gas Transmission Corporation; Notice of Application

October 12, 2000.

Take notice that on September 25, 2000, Columbia Gas Transmission Corporation (Columbia), 12801 Fair Lakes Parkway, Fairfax, Virginia 22030-0146, filed a request with the Commission in Docket No. CP00-470-000, pursuant to Section 7(c) of the Commission's Regulations of the Natural Gas Act and Part 157 of the Federal Energy Regulatory Commission's (Commission) regulations in which Columbia requests authorization to abandon certain natural gas storage facilities, by the reclassification of two active injection storage wells to observation well status, all as more fully set forth in the request on file with the Commission and open to public inspection. This filing may be viewed on the web at http://www.ferc.fed.us/online/rims.htm (call 202-208-2222 for assistance).

Specifically, Columbia seeks authority to abandon by the reclassification of two existing wells, Well Nos. 7516 and 7526, in the Terra Alta South Storage Field in Preston County, West Virginia. The wells have excessive salt water production so they will be used for observation only in the south end of the field.

Any questions regarding the application may be directed to Sue Belcher, Certificates Division, Columbia Gas Transmission Corporation, Post Office Box 1273, Charleston, West Virginia 25325-1273, telephone number (304) 357-2926.

Any person desiring to be heard or to make any protest with reference to said application should on or before October 20, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

A person obtaining intervenor statue will be placed on the service list maintained by the Commission and will receive copies of all documents filed by the Applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Comments will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in, and subject to the jurisdiction conferred upon the Commission by Sections 7 and 15 of the Natural Gas Act and the Commission's Rules of Practice and Procedures, a hearing will be held without further notice before the Commission or its designee on this application if no motion to intervene is filed within the time required herein and if the Commission, on its own review of the matter, finds that a grant of the certificate is required by the public convenience and necessity. If a motion for leave to intervene is timely filed, or if the Commission on its own motion believes that a formal hearing is required, further notice of such hearing will be duly given.

Under the procedure herein provided for, unless otherwise advised, it will be unnecessary for Columbia to appear, or be represented, at the hearing.

David P. Boergers,
Secretary.

[FR Doc. 00-26692 Filed 10-17-00; 8:45 am]

BILLING CODE 6717-01-M